DEPARTMENT OF DEFENSE

Office of the Secretary

Notice of Open Meeting

AGENCY: Office of the Assistant Secretary of Defense (Health Affairs), DoD.

ACTION: Notice of open meeting.

SUMMARY: In accordance with section 10(a)(2) of Public Law 92-463, The Federal Advisory Committee Act announcement is made of the following meeting:

Name of Committee: DoD Task Force on Mental Health, a Subcommittee of the Defense Health Board.

Dates: December 18, 2006 (Morning—Open Session); December 19, 2006 (Morning—Open Session); December 20, 2006 (Morning—Open Session).

Times: 0800-1200 hours (18, 19 and 20 December).

Location: Hyatt Regency Crystal City, 2799 Jefferson Davis Highway, Arlington, VA.

Agenda: The purpose of the meeting is to obtain, review, and evaluate information related to the Mental Health Task Force's congressionally-directed task of assessing the efficacy of mental health services provided to members of the Armed Forces by the Department of Defense. The Task Force members will receive briefings on topics related to mental health concerns among military service members and mental health care delivery. The Task Force will hold a “Town Hall Meeting” session to hear concerns from the Washington, DC metro area Active Duty Military, National Guard and Reserve, and Veterans communities and conduct executive working sessions.

FOR FURTHER INFORMATION CONTACT: Colonel Roger Gibson, Executive Secretary, Defense Health Board, Skyline One, 5204 Leesburg Pike, Suite 810, Falls Church, VA 22041, (703) 681-3279, ext. 123.

SUPPLEMENTARY INFORMATION: Morning sessions on December 18, 19 and 20, 2006 will be open to the public in accordance with Section 552b(b) of Title 5, U.S.C., specifically subparagraph (1) thereof and Title 5, U.S.C., appendix 1, subsection 10(d). Open sessions of the meeting will be limited by space accommodations. Any interested person may attend, appear before or file statements with the Board at the time and in the manner permitted by the Board.

Dated: November 30, 2006.
C.R. Choate,
Alternate OSD Federal Register Liaison Officer, Department of Defense.

[FR Doc. 06-9540 Filed 12-5-06; 8:45 am]

BILLING CODE 5001-06-M